DEPARTMENT OF EDUCATION

List of Correspondence From July 1, 2013, Through September 30, 2013

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from July 1, 2013, through September 30, 2013. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter, and it provides summary information, as appropriate. To protect the privacy interests of the individual or individuals involved, personally identifiable information has been redacted, as appropriate.

Part B—Assistance for Education of All Children With Disabilities

Section 612—State Eligibility

Topic Addressed: Free Appropriate Public Education

○ Dear Colleague Letter dated July 19, 2013, addressing concerns expressed by stakeholders about the unique educational needs of highly mobile children with disabilities under Part B of the IDEA.

○ Dear Colleague Letter dated August 20, 2013, providing an overview of a school district's responsibilities under Part B of the IDEA to address bullying of students with disabilities.

Topic Addressed: Least Restrictive Environment

○ Letter dated July 31, 2013, to University of Wisconsin's Center on Disability Health and Adapted Physical Activity Professor Garth Tymeson, regarding physical education for preschool children with disabilities.

Topic Addressed: Methods of Ensuring Services

○ Letter dated September 5, 2013, to PAVE Parent Training and Information Program Director Vicky McKinney, regarding requirements governing the use of public benefits or insurance to pay for services under Part B of the IDEA.

Section 614—Evaluations, Eligibility Determinations, Individualized Education Programs, and Educational Placements

Topic Addressed: Evaluations, Parental Consent, and Reevaluations

○ Letter dated September 10, 2013, to Lehigh University Professor of Education and Law Perry A. Zirkel, regarding whether a particular general education intervention could be considered a process based on a child's response to scientific, research-based intervention.

Topic Addressed: Individualized Education Programs (IEPs)

○ Letter dated September 3, 2013, to Colorado attorney W. Kelly Dude, regarding whether secondary transition services identified in the IEPs of high school students with disabilities could include the opportunity to take courses at postsecondary institutions prior to high school graduation.

○ Letter dated September 24, 2013, to Maine Department of Education Special Services Director Jan Breton, regarding the State's assessment of a school district's policy regarding written submissions by parents prior to IEP Team meetings.

Topic Addressed: Educational Placements

○ Letter dated August 5, 2013, to National Center for Homeless Education Director Diana Bowman, regarding the requirements in Part B of the IDEA that apply to the school of origin and transportation for homeless children with disabilities.

Section 615—Procedural Safeguards

Topic Addressed: Due Process Complaints

○ Letter dated August 1, 2013, to New Jersey attorney Michael Inzelbuch, regarding due process complaint procedures and criteria for independent educational evaluations at public expense.

Part C—Infants and Toddlers With Disabilities

Section 635—Requirements for Statewide System

Topic Addressed: Implementation of a Statewide System

○ Letter dated September 24, 2013, to Marilyn Arons, President of the Melody Arons Center of Applied Preschool Research and Education, Inc., clarifying the central directory and State complaint requirements in Part C of the IDEA.

Section 640—Payor of Last Resort

Topic Addressed: Use of Family's Public and Private Insurance for Early Intervention Services

○ Letter dated July 19, 2013, to IDEA Infant and Toddler Coordinators Association Executive Director Maureen Greer, responding to several questions regarding the requirements for parental consent, use of private insurance, and family fees when a State implements a system of payments (using public benefits or insurance, private insurance, and/or family fees) under Part C of the IDEA.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 15, 2014.
Michael K. Yudin,
Acting Assistant Secretary for Special Education and Rehabilitative Services.

[FR Doc. 2014-22322 Filed 9-17-14; 8:45 am]

BILLING CODE 4000-01-P